DEPARTMENT OF HEALTH AND HUMAN SERVICES

National Institutes of Health

Center for Scientific Review; Amended Notice of Meeting

Notice is hereby given of a change in the meeting of the Neurobiology of Learning and Memory Study Section, October 08, 2013, 08:00 a.m. to October 08, 2013, 06:00 p.m., Embassy Suites at the Chevy Chase Pavilion, 4300 Military Road NW., Washington, DC 20015, which was published in the Federal Register on September 10, 2013, 78 FR 175 Pgs. 55268-55270.

The meeting will be held at the National Institutes of Health, 6701 Rockledge Dr., Bethesda, MD 20892. The meeting will start on November 21, 2013 at 8:00 a.m. and end on November 22, 2013 at 6:00 p.m. The meeting is closed to the public.

Dated: October 29, 2013.
Melanie J. Gray,
Program Analyst, Office of Federal Advisory Committee Policy.

[FR Doc. 2013-26219 Filed 11-1-13; 8:45 am]

BILLING CODE 4140-01-P